ENVIRONMENTAL PROTECTION AGENCY

[FRL-8775-7]

Partnership To Promote Innovation in Environmental Practice, Notice of Availability of Solicitation for Proposals for 2009 Assistance Agreement Award

AGENCY: Environmental Protection Agency (EPA).

ACTION: Notice.

SUMMARY: The U.S. Environmental Protection Agency (EPA or Agency), National Center for Environmental Innovation (NCEI) is giving notice of the availability of its solicitation for proposals from institutions that are interested in organizing two symposia over four years to promote sharing and transfer of innovative environmental protection approaches among States, EPA, and other primarily governmental representatives. The solicitation is available at the Agency's State Innovation Grant Web site: http://www.epa.gov/innovation/2010symposium.htm, or may be requested from the Agency by e-mail to: innovation_state_grants@gov, telephone, or by mail. Eligible recipients include States, territories, Indian Tribes, interstate organizations, intrastate organizations, and possessions of the U.S., including the District of Columbia, public and private universities and colleges, hospitals, laboratories, other public or private nonprofit institutions, and individuals. Nonprofit organizations described in Section 501(c)(4) of the Internal Revenue Code that engage in lobbying activities as defined in Section 3 of the Lobbying Disclosure Act of 1995 are not eligible to apply. For-profit organizations are generally not eligible for funding.

DATES: Eligible applicants will have until April 22, 2009, to respond with a pre-proposal, budget, and project summary.

ADDRESSES: Copies of the solicitation can be downloaded from the Agency's Web site at http://www.epa.gov/innovation/2010symposium.htm or may be requested by telephone (202-566-2236), or by e-mail (innovation_state_grants@epa.gov). You can request a solicitation application package be sent to you by fax or by mail by contacting NCEI as indicated below.

Applicants are requested to apply online using the Grants.gov Web site with an electronic signature. Applicants are encouraged to submit their pre-proposals early. For those applicants who lack the technical capability to apply electronically via http://www.grants.gov, please contact Scott Fontenot by phone at: (202) 566-2236 and/or by e-mail at: innovation_state_grants@epa.gov, for alternative submission procedures.

FOR FURTHER INFORMATION CONTACT: If you have questions about this notice, please contact EPA at this e-mail address: innovation_state_grants@epa.gov; or, you may call Scott Fontenot at (202) 566-2236.

SUPPLEMENTARY INFORMATION: Strengthening EPA's innovation partnership with States and Tribes is a cornerstone of EPA's Innovation Strategy (http://www.epa.gov/innovation/strategy.htm). A key mechanism by which this partnership has been enhanced is through a bi-annual conference sponsored primarily by the National Center for Environmental Innovation that brings together State and EPA innovation practitioners to share experiences. EPA sponsored the first State-EPA Environmental Innovation Symposium in 2000 to showcase environmental innovations that promise improved results. A second symposium was held in 2003. In 2006, NCEI joined with EPA's Office of Congressional and Intergovernmental Relations to offer an expanded agenda that focused on innovation as well as performance management issues. In 2008, NCEI and EPA's Office of Air and Radiation held the State/EPA Symposium on Innovating for Sustainable Results: Integrated Approaches for Climate, Energy, and the Environment. (Information about these events can be found at http://www.epa.gov/innovation/symposia.htm). Evaluations from these events, along with discussion with State commissioners, indicate that States and others have a strong interest in additional symposia that allow participants to share experiences and results from innovative environmental programs and policies.

The primary audience for these symposia will be State environmental agency officials with practical experience implementing innovative approaches to environmental protection. Representatives from American Indian Tribes, local governments, other governments, NGOs, and the business community will also be invited to participate as appropriate to the ultimate symposia agendas. While EPA will have participants at the symposia, the primary goal of the meetings is to identify and highlight environmental innovations that can help States and other governmental entities learn about new ways to achieve environmental results. The symposia should be designed to:

—Identify and showcase successful, innovative projects and programs that have accomplished important environmental results at the State, Federal, or other levels;

—Facilitate information transfer so that proven approaches can be used by other states or other entities to achieve improved environmental results;

—Enable discussion about specific issues facing innovators, such as how to effectively evaluate pilot-scale efforts and how to replicate successful innovations on a larger scale (e.g., from a pilot project at one facility to a program for the entire sector) or in other programs (e.g., from use in the air program to the water program), and how to sustain innovation over time so that projects continue evolving to reflect new knowledge, experience, and/or technology;

—Expand the network of State, Federal and other environmental practitioners who are interested in applying and advancing new approaches;

—Stimulate ideas for new innovative initiatives and pilot projects.

The recipient will be responsible for preparing symposia agendas, identifying relevant speakers and presenters, promoting the event, and managing all symposia logistics. The recipient will be expected to be knowledgeable about a broad array of environmental policy issues and innovative approaches that have been tested to address them, and will establish and work with a Steering Committee comprised of representatives from the recipient, State environmental agencies and EPA, to serve as a resource and help inform planning of the symposia.

EPA is interested in supporting the first symposium in 2010 and a second symposium approximately two years later. The goal is to maximize participation for State environmental officials as well as local and Tribal government officials.

In addition to organizing the symposia, the recipient will provide other mechanisms for sharing information presented at the symposia, including providing all presentations and videotaped plenary sessions on a publicly available Web site. These resources will help extend the learning that occurs at the symposia to States, as well as other interested stakeholders.

Dated: March 3, 2009.
David Widawsky,
Acting Director, National Center for Environmental Innovation.

[FR Doc. E9-5384 Filed 3-11-09; 8:45 am]

BILLING CODE 6560-50-P